DEPARTMENT OF THE INTERIOR

Bureau of Land Management

[MT-926-07-1420-BJ-TRST]

Montana: Filing of Plat of Survey

AGENCY: Bureau of Land Management, Montana State Office, Interior.

ACTION: Notice of Filing of Plat of Survey.

SUMMARY: The Bureau of Land Management (BLM) will file the plat of survey of the lands described below in the BLM Montana State Office, Billings, Montana, (30) days from the date of publication in the Federal Register.

FOR FURTHER INFORMATION CONTACT: Steve Toth, Cadastral Surveyor, Branch of Cadastral Survey, Bureau of Land Management, 5001 Southgate Drive, Billings, Montana 59101-4669, telephone (406) 896-5121 or (406) 896-5009.

SUPPLEMENTARY INFORMATION: This survey was executed at the request of the Regional Director, Rocky Mountain Region, Billings, Montana, and was necessary to determine Trust and Tribal lands.

The lands we surveyed are:

Principal Meridian, Montana

T. 4 S., R. 32 E.

The plat, in 1 sheet, representing the dependent resurvey of a portion of the subdivisional lines and the adjusted original meanders of the former left bank of the Big Horn River, downstream, through section 10, the subdivision of section 10 and the survey of the meanders of the former left bank of a relicted channel of the Big Horn River, downstream, through section 10, the meanders of a portion of the present left bank of the Big Horn River, downstream, through section 10, the medial line of a relicted channel of the Big Horn River in section 10, and certain partition lines of a relicted channel of the Big Horn River in section 10, Township 4 South, Range 32 East, Principal Meridian, Montana, was accepted September 27, 2006.

We will place a copy of the plat, in 1 sheet, and related field notes we described in the open files. They will be available to the public as a matter of information.

If BLM receives a protest against this survey, as shown on this plat, in 1 sheet, prior to the date of the official filing, we will stay the filing pending our consideration of the protest.

We will not officially file this plat, in 1 sheet, until the day after we have accepted or dismissed all protests and they have become final, including decisions or appeals.

Dated: October 3, 2006.
Thomas M. Deiling,
Chief Cadastral Surveyor, Division of Resources.

[FR Doc. E6-16885 Filed 10-11-06; 8:45 am]

BILLING CODE 4310-$$-P